ENVIRONMENTAL PROTECTION AGENCY

[FRL-8570-9]

Science Advisory Board Staff Office; Notification of Upcoming Meeting of the Science Advisory Board Ecological Processes and Effects Committee Augmented for the Advisory on EPA's Ecological Research Program Multi-Year Plan

AGENCY: Environmental Protection Agency (EPA).

ACTION: Notice.

SUMMARY: The Environmental Protection Agency (EPA or Agency) Science Advisory Board (SAB) Staff Office announces a public teleconference of the SAB Ecological Processes and Effects Committee Augmented for the Advisory on EPA's Ecological Research Program Multi-Year Plan (Plan). The teleconference is being held to discuss the Committee's draft advisory report.

DATES: The teleconference will be held on June 13, 2008 from 1 p.m. to 4 p.m. (Eastern Daylight Time).

FOR FURTHER INFORMATION CONTACT: Any member of the public wishing further information regarding the public teleconference may contact Dr. Thomas Armitage, Designated Federal Officer (DFO). Dr. Armitage may be contacted at the EPA Science Advisory Board (1400F), U.S. Environmental Protection Agency, 1200 Pennsylvania Avenue, NW., Washington, DC 20460; or via telephone/voice mail: (202) 343-9995; fax (202) 233-0643; or e-mail at: armitage.thomas@epa.gov. General information about the EPA SAB, as well as any updates concerning the teleconference announced in this notice, may be found in the SAB Web site at: http://www.epa.gov/sab.

SUPPLEMENTARY INFORMATION: Pursuant to the Federal Advisory Committee Act, Public Law 92-463, notice is hereby given that the SAB Ecological Processes and Effects Committee Augmented for the Advisory on EPA's Ecological Research Program Multi-Year Plan will hold a public teleconference to discuss a draft advisory report on the EPA Ecological Research Program Multi-Year Plan. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background

The EPA Office of Research and Development developed a draft Ecological Research Program Multi-Year Plan that establishes long-term and annual goals for the Agency's Ecological Research Program and discusses planned research. The Multi-Year Plan describes a new direction for the Ecological Research Program intended to fill the need for a better understanding of the implications of human impacts on ecosystems and the services they provide. The redirected Ecological Research Program builds on past research efforts in ecosystem monitoring, restoration, and functioning to develop operational methods for incorporating quantitative information on ecosystem services into decision making.

EPA's Office of Research and Development requested that the SAB provide advice on the program focus, research questions, and implementation approach articulated in the Agency's draft Ecological Research Program Multi-Year Plan. The SAB was asked to comment on:

(1) The utility of the program in offering meaningful contributions to ecological sciences and providing useful information for decision making, (2) the adequacy of the proposed goals, objectives, and research questions in meeting the overall purpose of the program, (3) the proposed implementation approach, (4) anticipated challenges to achieving the overall goal of the program, and (5) ways to measure the progress, productivity, efficiency, and effectiveness of the program.

In response to EPA's request, the SAB Ecological Processes and Effects Committee is providing advice on the Plan. To augment the expertise on the Committee the SAB Staff Office selected several SAB committee members with expertise in valuing ecosystem services to participate in this advisory activity. The Committee has previously held one face-to-face meeting (73 FR 9327). Information about the SAB Ecological Processes and Effects Committee Augmented for the Advisory on EPA's Ecological Research Program Multi-Year Plan is available on the SAB Web site at: http://www.epa.gov/sab.

Availability of Meeting Materials: The draft Ecological Research Program Multi-Year Plan 2008-2014 reviewed by the SAB Committee is available on the following EPA Office of Research and Development Web site: http://www.epa.gov/ord/npd/pdfs/ERP-MYP-complete-draft-v5.pdf. The agenda and other material for the upcoming public teleconference will be posted on the SAB Web site at: http://www.epa.gov/sab in advance of the teleconference.

Procedures for Providing Public Input: Interested members of the public may submit relevant written or oral information for the SAB Committee to consider during the advisory process. Oral Statements: In general, individuals or groups requesting an oral presentation at a public teleconference will be limited to three minutes per speaker, with no more than a total of 30 minutes for all speakers. Interested parties should contact Dr. Armitage, DFO, in writing (preferably via e-mail) at the contact information noted above, no later than June 6, 2008 to be placed on a list of public speakers for the teleconference. Written Statements: Written statements should be received in the SAB Staff Office by June 6, 2008 so that the information may be made available to the SAB Committee members for their consideration. Written statements should be supplied to the DFO in the following formats: One hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Armitage at the phone number or e-mail address noted above, preferably at least ten days prior to the meeting to give EPA as much time as possible to process your request.

Dated: May 19, 2008.
Vanessa T. Vu,
Director, EPA Science Advisory Board Staff Office.

[FR Doc. E8-11609 Filed 5-22-08; 8:45 am]

BILLING CODE 6560-50-P